OFFICE OF PERSONNEL MANAGEMENT

[OMB Control No. 3206-0199]

Submission for OMB Review; Comment Request for Reinstatement of an Expired Information Collection: Nonforeign Area Cost-of-Living Allowance Price and Background Surveys

AGENCY: Office of Personnel Management.

ACTION: Notice.

SUMMARY: In accordance with the Paperwork Reduction Act of 1995, the Office of Personnel Management (OPM) has submitted to the Office of Management and Budget a request for reinstatement of the Nonforeign Area Cost-of-Living Allowance Price and Background Surveys (OMB Control No. 3206-0199), a previously-cleared information collection that was recently discontinued at OPM's discretion and for which the OMB clearance has expired. OPM uses price surveys and background surveys to gather data to be used in determining nonforeign area cost-of-living allowances (COLAs) paid to certain Federal employees in Alaska, Hawaii, Guam and the Northern Mariana Islands, Puerto Rico, and the U.S. Virgin Islands. OPM conducts price surveys in the Washington, DC, area on an annual basis and once every 3 years in each allowance area on a rotating basis. Prior to these surveys, OPM conducts background surveys that are similar to the price surveys, but much more limited in scope. OPM uses the results of the background surveys to prepare for the price surveys.

The COLA Price Survey is necessary for collecting living-cost data used to determine COLAs. OPM uses the Price Survey results to compare prices in the allowance areas with prices in the Washington, DC, area and to derive COLA rates where local living costs significantly exceed those in the DC area. The COLA Background Survey is necessary to determine the continued appropriateness of items, services, and businesses selected for the annual price surveys. OPM uses the Background Survey results to identify items to be priced and the outlets at which OPM will price the items in the Price Surveys.

OPM will survey selected retail, service, realty, and other businesses and local governments in the allowance areas and in the Washington, DC, area. OPM will contact approximately 2,000 establishments in each annual Price Survey and approximately 100 establishments in each annual Background Survey. Participation in the surveys is voluntary.

OPM estimates that the average price survey interview will take approximately 6 minutes, for a total burden of 200 hours. The average background survey interview will take approximately 6.5 minutes, for a total burden of 11 hours.

For copies of or further information on this proposal, contact J. Stanley Austin by telephone at (202) 606-2838, by fax at (202) 606-4264, or by e-mail at COLA@opm.gov. If you are requesting a copy of this proposal, please include your mailing address with your request.

DATES: Submit comments on or before January 21, 2009.

ADDRESSES: Send or deliver comments to:

Charles D. Grimes III, Deputy Associate Director for Performance and Pay Systems, Strategic Human Resources Policy Division, U.S. Office of Personnel Management, Room 7H31, 1900 E Street, NW., Washington, DC 20415-8200; fax: (202) 606-4264; or e-mail: COLA@opm.gov; and

John W. Barkhamer, OPM Desk Officer, Office of Information and Regulatory Affairs, Office of Management and Budget, New Executive Office Building, 725 17th Street, NW., Room 10235, Washington, DC 20503.

SUPPLEMENTARY INFORMATION: OPM published notice of its intention to request an extension of the price and background surveys in the Federal Register on May 2, 2008 (73 FR 24321). OPM did not receive any comments in response to the notice.

Office of Personnel Management.
Howard Weizmann,
Deputy Director.

[FR Doc. E8-30287 Filed 12-19-08; 8:45 am]

BILLING CODE 6325-39-P